DEPARTMENT OF ENERGY

Federal Energy Regulatory Commission

[Docket No. ER01-160-002, et al.]

Consolidated Edison Company of New York, Inc., et al.; Electric Rate and Corporate Regulation Filings

January 26, 2001.

Take notice that the following filings have been made with the Commission:

1. Consolidated Edison Company of New York, Inc.

[Docket No. ER01-160-002]

Take notice that on January 23, 2001, Consolidated Edison Company of New York, Inc. (Con Edison), tendered for filing a revised rate schedule in the above-listed docket.

Con Edison states that a copy of this filing has been served upon O&R.

Comment date: February 13, 2001, in accordance with Standard Paragraph E at the end of this notice.

2. Avista Corporation

[Docket No. ER99-1435-002]

Take notice that on January 22, 2001, Avista Corporation (Avista Corp.), tendered for filing a report of ancillary service activities in the ancillary services markets conducted pursuant to Avista Corp.'s FERC Electric Tariff Volume No. 9.

Comment date: February 12, 2001, in accordance with Standard Paragraph E at the end of this notice.

3. Consolidated Edison Company of New York, Inc.

[Docket No. ER01-161-002]

Take notice that on January 23, 2001, Consolidated Edison Company of New York, Inc. (Con Edison), tendered for filing a revised rate schedule in the above-listed docket.

Con Edison states that a copy of this filing has been served by mail upon Central Hudson.

Comment date: February 13, 2001, in accordance with Standard Paragraph E at the end of this notice.

4. Wisconsin Electric Power Company

[Docket No. ER01-384-001]

Take notice that on January 17, 2001, Wisconsin Electric Power Company (Wisconsin Electric), tendered for filing a Standby Service Facilities Agreement with New London Utilities and a revised Power Sales Agreement with Wisconsin Public Power, Inc.

Copies of the filing have been served on the customer, the Michigan Public Service Commission, and the Public Service Commission of Wisconsin.

Comment date: February 7, 2001, in accordance with Standard Paragraph E at the end of this notice.

5. DPL Energy Resources, Inc.

[Docket No. ER01-462-001]

Take notice that on January 10, 2001, DPL Energy Resources, Inc., (DPLER), a wholly owned subsidiary of DPL Inc., tendered for filing a rate schedule to engage in sales at market-based rates. DPLER includes a proposed code of conduct.

Comment date: February 5, 2001, in accordance with Standard Paragraph E at the end of this notice.

6. Cook Inlet Power, LP

[Docket No. ER01-544-001]

Take notice that on January 23, 2001, Cook Inlet Power, LP (Cook Inlet LP), tendered for filing an original Rate Schedule FERC No. 1 with designations pursuant to the order dated January 3, 2001. The substance of this Rate Schedule is identical to the Rate Schedule filed on November 30, 2000. The only change to the Rate Schedule is the addition of designations, pursuant to Order No. 614, FERC Stats. & Regs. ¶31,096 (2000).

Comment date: February 13, 2001, in accordance with Standard Paragraph E at the end of this notice.

7. Harquahala Generating Company, LLC

[Docket No. ER01-748-001]

Take notice that on January 24, 2001, Harquahala Generating Company, LLC tendered for filing, pursuant to Section 205 of the Federal Power Act, and Part 35 of the Commission's Regulations, an amendment to its FERC Electric Tariff No. 1 that was included in its application for authorization to sell capacity, energy, and certain Ancillary Services at market-based rates filed with the Commission on December 21, 2000.

Comment date: February 14, 2001, in accordance with Standard Paragraph E at the end of this notice.

8. Entergy Services, Inc.

[Docket No. ER01-894-001]

Take notice that on January 22, 2001, Entergy Services, Inc. (Entergy), on behalf of the Entergy Operating Companies, tendered for filing an amendment to its January 5, 2001 filing in Docket No. ER01-894-000, which added the Second Amendment and Appendix A to the Network Integration Transmission Service Agreement (NITSA) between Entergy and East Texas Electric Cooperative, Inc., Sam Rayburn G&T Electric Cooperative, Inc., and Tex-La Electric Cooperative, Inc. Entergy states that the amendment to the January 5 filing serves to include an Exhibit B to that filing, which includes the Network Resources designated under the NITSA.

Comment date: February 12, 2001, in accordance with Standard Paragraph E at the end of this notice.

9. Otter Tail Power Company

[Docket No. ER01-1030-000]

Take notice that on January 22, 2001, Otter Tail Power Company (Otter Tail), tendered for filing with the Federal Energy Regulatory Commission a letter approving its membership in the Western Systems Power Pool (WSPP).

Otter Tail requests that the Commission allow its membership in the WSPP to become effective on January 19, 2001.

Otter Tail states that a copy of this filing has been provided to the WSPP Executive Committee, the Minnesota Public Utilities Commission, Michael E. Small, Esq., General Counsel to the WSPP and the members of the WSPP.

Comment date: February 12, 2001, in accordance with Standard Paragraph E at the end of this notice.

10. The Dayton Power and Light Company

[Docket No. ER01-1031-000]

Take notice that on January 23, 2001, The Dayton Power and Light Company (DPL), tendered for filing service agreements between DPL and The Dayton Power and Light Company (Energy Services Department) under the terms of DPL's Open Access Transmission Tariff filed in Docket No. ER01-317-000.

Dayton requests an effective date of one day subsequent to this filing for the service agreements. Accordingly, Dayton requests waiver of the Commission's notice requirements.

Copies of this filing were served upon The Dayton Power and Light Company Energy Services Department and the Public Utilities Commission of Ohio.

Comment date: February 13, 2001, in accordance with Standard Paragraph E at the end of this notice.

11. Allegheny Energy Service Corporation on Behalf of Allegheny Energy Supply Conemaugh, LLC

[Docket No. ER01-1032-000]

Take notice that on January 23, 2001, Allegheny Energy Service Corporation on behalf of Allegheny Energy Supply Conemaugh, LLC tendered for filing Service Agreement No. 1 to add one (1) new Customer to the Market Rate Tariff under which Allegheny Energy Supply Conemaugh, LLC offers generation services.

Allegheny Energy Supply Conemaugh, LLC requests a waiver of notice requirements to make service available as of January 8, 2001 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: February 13, 2001, in accordance with Standard Paragraph E at the end of this notice.

12. Allegheny Energy Service Corporation, on Behalf of Monongahela Power Company, The Potomac Edison Company, and West Penn Power Company (Allegheny Power)

[Docket No. ER01-1033-000]

Take notice that on January 23, 2001, Allegheny Energy Service Corporation on behalf of Monongahela Power Company, The Potomac Edison Company and West Penn Power Company (Allegheny Power), tendered for filing Service Agreement Nos. 335 and 336 to add Engage Energy America LLC to Allegheny Power's Open Access Transmission Service Tariff which has been accepted for filing by the Federal Energy Regulatory Commission in Docket No. ER96-58-000.

The proposed effective date under the Service Agreements is January 22, 2001 or a date ordered by the Commission.

Copies of the filing have been provided to the Public Utilities Commission of Ohio, the Pennsylvania Public Utility Commission, the Maryland Public Service Commission, the Virginia State Corporation Commission, and the West Virginia Public Service Commission.

Comment date: February 13, 2001, in accordance with Standard Paragraph E at the end of this notice.

13. Cinergy Services, Inc.

[Docket No. ER01-1035-000]

Take notice that on January 23, 2001, Cinergy Services, Inc. (Cinergy), tendered for filing a Confirmation Letter under Cinergy's Market-Based Power Sales Standard Tariff-MB (the Tariff) entered into between Cinergy and NewEnergy, Inc. (NewEnergy).

Cinergy and NewEnergy are requesting an effective date of January 1, 2001.

Comment date: February 13, 2001, in accordance with Standard Paragraph E at the end of this notice.

14. Electric Energy, Inc.

[Docket No. ER01-1038-000]

Take notice that on January 23, 2001, Electric Energy, Inc. (EEInc.), tendered for filing an executed Transmission Service Agreement for Firm Point-to-Point Transmission Service between EEInc. and LG&E Energy Marketing, Inc., (LG&E).

Under the Transmission Service Agreement, EEInc. will provide Point-to-Point Transmission Service to LG&E pursuant to EEInc.'s open access transmission tariff filed in compliance with Order No. 888 and allowed to become effective by the Commission.

EEInc. has requested that the Service Agreement be allowed to become effective as of April 1, 2001.

Copies of this filing have been sent to LG&E.

Comment date: February 13, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2767 Filed 1-31-01; 8:45 am]

BILLING CODE 6717-01-P